INTERNATIONAL TRADE COMMISSION

[Inv. No. 337-TA-555]

In the Matter of Certain Devices for Determining Organ Positions and Certain Subassemblies Thereof; Notice of Commission Determination not to Review an Initial Determination Granting a Motion to Intervene

AGENCY: U.S. International Trade Commission.

ACTION: Notice.

SUMMARY: Notice is hereby given that the U.S. International Trade Commission has determined not to review an initial determination (“ID”) (Order No. 5) issued by the presiding administrative law judge (“ALJ”) granting the motion of Université Joseph Fourier (Grenoble) (“UJF”) of Grenoble, France, to intervene as a complainant in the above-captioned investigation.

FOR FURTHER INFORMATION CONTACT: Clara Kuehn, Esq., Office of the General Counsel, U.S. International Trade Commission, 500 E Street, SW., Washington, DC 20436, telephone (202) 205-3012. Copies of the public version of the ALJ's ID and all other nonconfidential documents filed in connection with this investigation are or will be available for inspection during official business hours (8:45 a.m. to 5:15 p.m.) in the Office of the Secretary, U.S. International Trade Commission, 500 E Street, SW., Washington, DC 20436, telephone 202-205-2000.

General information concerning the Commission may also be obtained by accessing its Internet server (http://www.usitc.gov). The public record for this investigation may be viewed on the Commission's electronic docket (EDIS-ON-LINE) at http://edis.usitc.gov. Hearing-impaired persons are advised that information on this matter can be obtained by contacting the Commission's TDD terminal on 202-205-1810.

SUPPLEMENTARY INFORMATION: The Commission instituted this investigation on December 2, 2005, based on a complaint filed by SAS PRAXIM of La Tronche, France and Varian Medical Systems, Inc. of Palo Alto, California (“complainants”). The complaint, as supplemented, alleged violations of section 337 by Resonant Medical, Inc. (“Resonant”) of Montreal, Canada, in the importation into the United States, the sale for importation, and the sale within the United States after importation of certain devices for determining organ positions and certain subassemblies thereof by reason of infringement of claims 1, 2, 5, and 10 of U.S. Patent No. 5,447,154. 70 FR 72314 (2005).

On January 30, 2006, non-party UJF moved to intervene as a complainant. On February 9, 2006, Resonant filed a response to the motion. On February 8, 2006, complainants filed a statement in support of the motion. The Commission investigative attorney did not oppose the motion.

On February 16, 2006, the ALJ issued an ID (Order No. 5) granting the motion to intervene.

No petitions for review of the ID were filed.

This action is taken under the authority of section 337 of the Tariff Act of 1930 (19 U.S.C. 1337) and rule 210.42 of the Commission's Rules of Practice and Procedure (19 CFR 10.42).

By order of the Commission.
Issued: March 20, 2006.
Marilyn R. Abbott,
Secretary to the Commission.

[FR Doc. E6-4202 Filed 3-22-06; 8:45 am]

BILLING CODE 7020-02-P